ENVIRONMENTAL PROTECTION AGENCY

[EPA-HQ-OW-2020-0673; FRL-8242.1-03-OW]

Applying the Supreme Court's County of Maui v. Hawaii Wildlife Fund Decision in the Clean Water Act Section 402 National Pollutant Discharge Elimination System Permit Program

AGENCY: Environmental Protection Agency (EPA).

ACTION: Notice of availability; rescission.

SUMMARY: The Environmental Protection Agency (EPA) issued a memorandum rescinding the guidance document entitled “Applying the Supreme Court's County of Maui v. Hawaii Wildlife Fund Decision in the Clean Water Act Section 402 National Pollutant Discharge Elimination System Permit Program,” which was signed on January 14, 2021. The memorandum was issued on September 15, 2021.

FOR FURTHER INFORMATION CONTACT: Marcus Zobrist, Office of Wastewater Management, Water Permits Division (MC4203M), Environmental Protection Agency, 1200 Pennsylvania Ave. NW, Washington, DC 20460; telephone number: (202) 564-8311; email address: zobrist.marcus@epa.gov.

SUPPLEMENTARY INFORMATION:

How can I get copies of this document and other information?

You may access the memorandum electronically at https://www.epa.gov/npdes/releases-point-source-groundwater or at the public docket under Docket ID No. EPA-HQ-OW-2020-0673 which is accessible electronically at http://www.regulations.gov. The docket will also contain a copy of this Federal Register document and the Federal Register document that announced the guidance document (86 FR 6321, January 21, 2021). The public docket does not include confidential business information (CBI) or other information whose disclosure is restricted by statute. The telephone number for the Water Docket is (202) 566-2426.

Dated: September 22, 2021.
Andrew D. Sawyers,
Director, Office of Wastewater Management.

[FR Doc. 2021-20993 Filed 9-27-21; 8:45 am]

BILLING CODE 6560-50-P